DEPARTMENT OF TRANSPORTATION

Federal Aviation Administration

14 CFR Part 39

[Docket No. FAA-2011-0479; Directorate Identifier 2010-NM-154-AD]

RIN 2120-AA64

Airworthiness Directives; Bombardier Inc. Model DHC-8-102, -103, -106, -201, -202, -301, -311, and -315 Airplanes; Equipped With Certain Cockpit Door Installations

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

During structural testing of the cockpit door, it was observed that the door lower hinge block rotated which resulted in disengagement of the mating hinge pin and excessive door deflection. The lower hinge block rotated because it was attached to its support structure with only one attachment bolt, which prevented it from reacting to any moment force. This condition, if not corrected could result in breakage and uncontrolled release of the cockpit door under certain decompression situations.

After incorporation of Modsum 8Q900267 * * *, an operator reported a failure to complete the cockpit door removal function test. This condition, if not corrected, could result in the inability to remove the cockpit door for emergency egress. * * *

The proposed AD would require actions that are intended to address the unsafe condition described in the MCAI.

DATES: We must receive comments on this proposed AD by July 25, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Bombardier Inc., Q-Series Technical Help Desk, 123 Garratt Boulevard, Toronto, Ontario M3K 1Y5, Canada; telephone 416-375-4000; fax 416-375-4539; e-mail thd.qseries@aero.bombardier.com; Internet http://www.bombardier.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Andreas Rambalakos, Aerospace Engineer, Airframe and Mechanical Systems Branch, ANE-171, FAA, New York Aircraft Certification Office, 1600 Stewart Avenue, Suite 410, Westbury, New York 11590; telephone (516) 228-7345; fax (516) 794-5531.

SUPPLEMENTARY INFORMATION:

Comments Invited

We invite you to send any written relevant data, views, or arguments about this proposed AD. Send your comments to an address listed under the ADDRESSES section. Include “Docket No. FAA-2011-0479; Directorate Identifier 2010-NM-154-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On June 5, 2006, we issued AD 2006-12-16, Amendment 39-14642 (71 FR 34006, June 13, 2006). That AD required actions intended to address an unsafe condition on the products listed above.

Since we issued AD 2006-12-16, an operator reported a failure to complete the cockpit door removal function test. This condition, if not corrected, could result in the inability to remove the cockpit door for emergency egress. The Transport Canada Civil Aviation (TCCA), which is the aviation authority for Canada, has issued Canadian Airworthiness Directive CF-2005-34R1, dated August 15, 2007 (referred to after this as “the MCAI”), to correct an unsafe condition for the specified products. The MCAI states:

During structural testing of the cockpit door, it was observed that the door lower hinge block rotated which resulted in disengagement of the mating hinge pin and excessive door deflection. The lower hinge block rotated because it was attached to its support structure with only one attachment bolt, which prevented it from reacting to any moment force. This condition, if not corrected could result in breakage and uncontrolled release of the cockpit door under certain decompression situations.

After incorporation of Modsum 8Q900267 * * *, an operator reported a failure to complete the cockpit door removal function test. This condition, if not corrected, could result in the inability to remove the cockpit door for emergency egress. Therefore, * * * this [Canadian] directive is issued to require rework of the cockpit door striker plate and replacement of the latch block for the affected aircraft serial numbers. * * *

You may obtain further information by examining the MCAI in the AD docket.

Relevant Service Information

Bombardier Inc. has issued Service Bulletins 8-52-58, Revision A, dated November 17, 2006; and 8-52-61, dated October 20, 2006. The actions described in this service information are intended to correct the unsafe condition identified in the MCAI.

Change to Table 3 of the Existing AD

We have revised Table 3 of the existing AD to remove reference to Bombardier Series 100/300 Modification Summary (Modsums) 8Q200015, 8Q420101, and 8Q420143 in the column labeled “One approved method for doing these actions.” However, we have approved De Havilland Aircraft of Canada, Limited, Modification 8/2337 as an additional source of guidance for reworking the cockpit door emergency release. We have approved De Havilland Aircraft of Canada, Limited, Modification 8/3339 as an additional source of guidance for installing a new label regarding the alternate release of the door. We have also approved Bombardier Series 100/300 Modsum 8Q200015 as an additional source of guidance for installing the cockpit door. Operators may contact the Manager, New York Aircraft Certification Office, ANE-170, for information regarding the use of Bombardier Series 100/300 Modsum 8Q200015 for installing the cockpit door, as required by paragraph (h) of this AD. We have not included Bombardier Series 100/300 Modsums 8Q420101 and 8Q420143 in this AD because they are optional installations of the emergency locator transmitter and blow-out panel on the cockpit door and were done during production.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 17 products of U.S. registry.

The actions that are required by AD 2006-12-16 and retained in this proposed AD take between 3 and 6 work-hours per product, depending on the airplane configuration, at an average labor rate of $85 per work hour. Required parts cost about $2,000 per product. Based on these figures, the estimated cost of the currently required actions is between $2,255 and $2,510 per product.

We estimate that it would take about 3 work-hours per product to comply with the new basic requirements of this proposed AD. The average labor rate is $85 per work-hour. Required parts would cost about $2,000 per product. Where the service information lists required parts costs that are covered under warranty, we have assumed that there will be no charge for these costs. As we do not control warranty coverage for affected parties, some parties may incur costs higher than estimated here. Based on these figures, we estimate the cost of the proposed AD on U.S. operators to be $38,335, or $2,255 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14642 (71 FR 34006, June 13, 2006) and adding the following new AD:

Bombardier Inc.: Docket No. FAA-2011-0479; Directorate Identifier 2010-NM-154-AD.

Comments Due Date

(a) We must receive comments by July 25, 2011.

Affected ADs

(b) This AD supersedes AD 2006-12-16, Amendment 39-14642.

Applicability

(c) This AD applies to Bombardier Model DHC-8-102, -103, -106, -201, -202, -301, -311, and -315 airplanes, certificated in any category; serial numbers (S/Ns) 003 through 557 inclusive; equipped with cockpit door installation part numbers (P/Ns) identified in Table 1 of this AD.

Table 1—Cockpit Door Installations Affected by This AD
P/N | Dash number(s)
82510074 | All
82510294 | All
82510310 | -001
8Z4597 | -001
H85250010 | All
82510700 | All
82510704 | All except -502 and -503

Subject

(d) Air Transport Association (ATA) of America Code 52: Doors.

Reason

(e) The mandatory continuing airworthiness information (MCAI) states:

During structural testing of the cockpit door, it was observed that the door lower hinge block rotated which resulted in disengagement of the mating hinge pin and excessive door deflection. The lower hinge block rotated because it was attached to its support structure with only one attachment bolt, which prevented it from reacting to any moment force. This condition, if not corrected could result in breakage and uncontrolled release of the cockpit door under certain decompression situations.

After incorporation of Modsum 8Q900267 * * * an operator reported a failure to complete the cockpit door removal function test. This condition, if not corrected, could result in the inability to remove the cockpit door for emergency egress. * * *

Compliance

(f) You are responsible for having the actions required by this AD performed within the compliance times specified, unless the actions have already been done.

Restatement of Requirements of AD 2006-12-16, With New Service Information

Modification

(g) Within 24 months after July 18, 2006 (the effective date of AD 2006-12-16), modify the cockpit door from a single-point attachment to a two-point attachment in accordance with the Accomplishment Instructions of the applicable service bulletin in Table 2 of this AD. For airplane serial numbers 452, 464, 490, 506, and 508 through 557 inclusive: After the effective date of this AD, use Bombardier Service Bulletin 8-52-58, Revision A, dated November 17, 2006.

Table 2—Bombardier Service Bulletins for Modification Required by Paragraph (g) of this AD
Use this Bombardier Service Bulletin— | For airplane serial numbers—
8-52-54, Revision A, dated November 5, 2004 | 003 through 451 inclusive, 453 through 463 inclusive, 465 through 489 inclusive, 491 through 505 inclusive, and 507.
8-52-58, dated May 12, 2004, or Revision A, dated November 17, 2006 | 452, 464, 490, 506, and 508 through 557 inclusive.

Note 1: Bombardier Service Bulletin 8-52-54 refers to Bombardier Series 100/300 Modification Summary (Modsum) 8Q100859 as an additional source of guidance for installing a hinge pin with a two-point attachment. Bombardier Service Bulletin 8-52-58 refers to Bombardier Series 100/300 Modsum 8Q900267 as an additional source of guidance for reworking and installing the cockpit door, and reworking the lower hinge attachment to provide a downward-facing pin with a two-point attachment.

Prior/Concurrent Requirements

(h) Prior to or concurrently with the modification in paragraph (g) of this AD, do the applicable actions specified in Table 3 of this AD, according to a method approved by either the Manager, New York Aircraft Certification (ACO), FAA; or Transport Canada Civil Aviation (TCCA) (or its delegated agent).

Table 3—Bombardier Service Bulletins for Requirements of Paragraph (h) of This AD
For airplanes affected by Bombardier Service Bulletin— | That have these serial numbers— | Do these actions—
8-52-54, Revision A, dated November 5, 2004 | 003 through 407 inclusive, 409 through 412 inclusive, and 414 through 433 inclusive | Rework the cockpit door emergency release.
|  | Install a new label regarding alternate release of the door.
8-52-58, dated May 12, 2004 | 452, 464, 490, 506, and 508 through 557 inclusive | Install the cockpit door.

Note 2: Bombardier Service Bulletin 8-52-54, Revision A, dated November 5, 2004, refers to De Havilland Aircraft of Canada, Limited, Modification 8/2337 as an additional source of guidance for reworking the cockpit door emergency release; and Modification 8/3339 as additional source of guidance for installing a new label regarding alternate release of the door, on airplanes having serial numbers 003 through 407 inclusive, 409 through 412 inclusive, and 414 through 433 inclusive.

Note 3: Bombardier Service Bulletin 8-52-58, dated May 12, 2004; and Revision A, dated November 17, 2006; refer to Bombardier Modsum 8Q200015, as an additional source of guidance for installing the cockpit door, on airplanes having serial numbers 452, 464, 490, 506, and 508 through 557 inclusive.

Actions Done In Accordance With Previous Revision of Service Bulletin

(i) Actions done before July 18, 2006, in accordance with Bombardier Service Bulletin 8-52-54, dated May 12, 2004, are acceptable for compliance with the corresponding requirements in paragraph (g) of this AD.

New Requirements of This AD

(j) For airplanes having S/N 452, 464, 490, 506, and 508 through 557 inclusive, and on which the requirements in paragraph (g) of this AD have been done as of the effective date of this AD: Within 12 months after the effective date of this AD rework the cockpit door striker plate and replace the latch block, in accordance with the Accomplishment Instructions of Bombardier Service Bulletin 8-52-61, dated October 20, 2006.

(k) For airplanes having S/Ns 452, 464, 490, 506, and 508 through 557 inclusive, and on which the requirements in paragraph (g) of this AD have not been done as of the effective date of this AD: Prior to or concurrently with doing the modification required in paragraph (g) of this AD, rework the cockpit door striker plate and replace the latch block, in accordance with the Accomplishment Instructions of Bombardier Service Bulletin 8-52-61, dated October 20, 2006.

FAA AD Differences

Note 4: This AD differs from the MCAI and/or service information as follows: No differences.

Other FAA AD Provisions

(l) The following provisions also apply to this AD:

(1) Alternative Methods of Compliance (AMOCs): The Manager, New York Aircraft Certification Office, ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(m) Refer to MCAI Canadian Airworthiness Directive CF-2005-34R1, dated August 15, 2007; Bombardier Service Bulletin 8-52-54, Revision A, dated November 5, 2004; Bombardier Service Bulletin 8-52-58, Revision A, dated November 17, 2006; and Bombardier Service Bulletin 8-52-61, dated October 20, 2006; for related information.

Issued in Renton, Washington, on May 27, 2011.
Ali Bahrami,
Manager, Transport Airplane Directorate, Aircraft Certification Service.

[FR Doc. 2011-14091 Filed 6-7-11; 8:45 am]

BILLING CODE 4910-13-P